DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: National Estuarine Research Reserve System Science Collaboration Evaluation Survey.

OMB Control Number: None.

Form Number(s): NA.

Type of Request: Regular submission (request for a new information collection).

Number of Respondents: 140.

Average Hours per Response: 20 minutes.

Burden Hours: 47.

Needs and Uses: This request is for a new information collection.

The National Estuarine Research Reserve System (NERRS) Science Collaborative was created in 2009 to put Reserve-based science to work for coastal communities coping with the impacts of land use change, pollution, and habitat degradation in the context of a changing climate. The program operates on the belief that for science to be applied to solve coastal management problems, the people who need to use the science must be involved in its generation.

The projects funded by the NERRS Science Collaborative are designed to bring the intended users of the science into the research process so that their perspectives can inform problem definition, research design and implementation, and ultimately, application of the project results. This is what is meant by “collaboration,” and it is the program's goal to use this process to ensure that the good science happening in and around the Reserves gets put to good use.

To help evaluate the efficacy of the NERRS Science Collaborative, NOAA is conducting a survey of the NERRS staff located in the 28 Reserves around the country to solicit their perspective about the program and how it has been implemented.

Affected Public: State, local or tribal government, not-for-profit institutions.

Frequency: Once.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: February 8, 2013.
Gwellnar Banks,
Management Analyst, Office of the Chief Information Officer.

[FR Doc. 2013-03384 Filed 2-13-13; 8:45 am]

BILLING CODE 3510-08-P